DEPARTMENT OF HOMELAND SECURITY

Federal Emergency Management Agency

44 CFR Part 67

[Docket ID FEMA-2013-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + elevation in feet (NAVD) # depth in feet above ground ‸ elevation in meters (MSL) modified | Communities affected
Elko County, Nevada, and Incorporated Areas
Docket No.: FEMA-B-1127
I-80 Runoff | From approximately 0.60 mile downstream of the I-80 crossing of U.S. Alt 93 to approximately 0.38 mile downstream of the I-80 crossing of U.S. Alt 93 | #2 | City of West Wendover, Unincorporated Areas of Elko County.
| From approximately 0.97 mile upstream of the I-80 crossing of U.S. Alt 93 to approximately 1.42 mile upstream of the I-80 crossing of U.S. Alt 93 | #2
| Approximately 500 feet north of Wendover Boulevard, approximately 0.73 mile east of U.S. Alt 93 | +4355
| Approximately 80 feet north of I-80, approximately 400 feet east of Maple Street | +4362
| Approximately 260 feet downstream of the U.S. Alt 93 crossing of I-80 along U.S. Alt 93 | +4380
| Approximately 0.74 mile upstream of the I-80 crossing of U.S. Alt 93 | +4530
North Channel | From approximately 250 feet upstream of U.S. Alt 93 to approximately 0.51 mile upstream of U.S. Alt 93 | #1 | Unincorporated Areas of Elko County.
| From approximately 0.95 mile upstream of U.S. Alt 93 to approximately 1.25 mile upstream of U.S. Alt 93 | #1
| From approximately 0.51 mile upstream of U.S. Alt 93 to approximately 300 feet downstream of Western Pacific Railroad | #2
| Approximately 1.60 mile downstream of Landfill Road along U.S. Alt 93 | +4280
| Approximately 1,900 feet downstream of Landfill Road along U.S. Alt 93 | +4292
| Approximately 300 feet downstream of Western Pacific Railroad | +4452
| Approximately 1,700 feet downstream of I-80 | +4745
North Channel Tributary | At the culvert at Western Pacific Railroad to approximately 0.38 mile upstream of the culvert at Western Pacific Railroad | #1 | Unincorporated Areas of Elko County.
| Approximately 250 feet upstream of the confluence with North Channel | +4528
| Approximately 100 feet upstream of Western Pacific Railroad | +4678
North Channel Tributary 2 | Approximately 200 feet upstream of the confluence with North Channel | +4560 | Unincorporated Areas of Elko County.
| Approximately 0.44 mile upstream of the confluence with North Channel | +4595
North Channel Tributary 3 | From approximately 0.85 mile downstream of I-80 to approximately 100 feet downstream of I-80 | #1 | Unincorporated Areas of Elko County.
| Just upstream of I-80 eastbound | +4802
| Approximately 100 feet northeast of the I-80 exit to Wendover Boulevard | +4828
North East Runoff | Approximately 1 mile north of the intersection of Maple Street and Odle Drive to approximately 1.10 mile northeast of the intersection of Maple Street and Odle Drive | +4871 | Unincorporated Areas of Elko County.
Ponding in Casino Parking Lot | Approximately 300 feet south of Wendover Boulevard, just east of Camper Drive, to approximately 600 feet east of Camper Drive | +4377 | City of West Wendover.
Ponding in Gas Station Parking Lot | Approximately 0.40 mile west of U.S. Alt 95, approximately 350 feet north of Wendover Boulevard, to approximately 675 feet north of Wendover Boulevard | +4420 | City of West Wendover.
Ponding in Recreational Center Softball Field | Approximately 1,250 feet east of Camper Drive, approximately 910 feet south of Wendover Boulevard, to approximately 550 feet south of Wendover Boulevard | #1 | City of West Wendover, Unincorporated Areas of Elko County.
Red Garter Street and Wendover Boulevard Runoff | From approximately 500 feet downstream of the intersection of Wendover Boulevard and Red Garter Street to approximately 500 feet north of the intersection of Wendover Boulevard and Red Garter Street | #3 | City of West Wendover, Unincorporated Areas of Elko County.
South West Channel | Approximately 1.26 mile downstream of Western Pacific Railroad | +4408 | Unincorporated Areas of Elko County.
| Approximately 0.88 mile upstream of Western Pacific Railroad | +4602
South West Channel Tributary | From approximately 550 feet east of Western Pacific Railroad to approximately 1.02 mile upstream of Western Pacific Railroad | #1 | Unincorporated Areas of Elko County.
| Approximately 1,730 feet downstream of Western Pacific Railroad | +4482
| Approximately 0.62 mile upstream of Western Pacific Railroad along Western Pacific Railroad | +4550
Wendover Air Force Auxiliary Field Basins | From approximately 0.95 mile south of the intersection of U.S. Alt 93 and Airport Way to approximately 0.78 mile south of the intersection of U.S. Alt 93 and Airport Way | #1 | Unincorporated Areas of Elko County.
| Approximately 0.83 mile south of the intersection of U.S. Alt 93 and Airport Way | +4228
| Approximately 0.38 mile south of the intersection of U.S. Alt 93 and Airport Way | +4250
Wendover Air Force Auxiliary Field Drainage | From approximately 2.00 miles south of the intersection of U.S. Alt 93 and Airport Way to approximately south of the intersection of U.S. Alt 93 and Airport Way | #1 | Unincorporated Areas of Elko County.
| From approximately 2.40 miles south of Scobie Road to approximately 2.00 miles south of Scobie Road, and from approximately 1.88 mile east of U.S. Alt 93 to approximately 2.38 miles east of U.S. Alt 93 | #2
| Approximately 0.39 mile downstream of the intersection of Airport Way and U.S. Alt 93 along Airport Way | +4260
| Approximately 500 feet upstream of Airport Way | +4268
Wendover Boulevard Runoff | From approximately 0.51 mile east of the intersection of U.S. Alt 93 and Wendover Boulevard along Wendover Boulevard to approximately 600 feet east of the intersection of U.S. Alt 93 and Wendover Boulevard | #1 | City of West Wendover.
| Approximately 0.51 mile east of the intersection of U.S. Alt 93 and Wendover Boulevard north and south of Wendover Boulevard | +4345
Wendover Boulevard to Airport Way Runoff | From Kelcee Street to just south of Western Pacific Railroad along Airport Way | #2 | City of West Wendover.
| From approximately 0.40 mile east of the intersection of U.S. Alt 93 and Western Pacific Railroad to approximately 1,109 feet east of the intersection of U.S. Alt 93 and Western Pacific Railroad | #2
| Between Wendover Boulevard, U.S. Alt 93, and Scobie Road, approximately 470 feet south of Wendover Boulevard | +4286
West Channel | From approximately 0.40 mile upstream of the confluence with South West Channel to approximately 0.72 mile upstream of the confluence with South West Channel | #1 | Unincorporated Areas of Elko County.
| Approximately 100 feet upstream of the confluence with South West Channel | +4453
| Approximately 0.39 mile upstream of the confluence with South West Channel | +4498
| Approximately 0.72 mile upstream of the confluence with South West Channel | +4535
| Approximately 3.25 miles upstream of the confluence with South West Channel | +4696
Western Pacific Railroad and U.S. Route 93 Runoff | Approximately 1,050 feet downstream of the U.S. Alt 93 crossing of Western Pacific Railroad | +4298 | City of West Wendover, Unincorporated Areas of Elko County.
| Approximately 0.49 mile upstream of the U.S. Alt 93 crossing of Western Pacific Railroad | +4326
* National Geodetic Vertical Datum.
+ North American Vertical Datum.
# Depth in feet above ground.
‸ Mean Sea Level, rounded to the nearest 0.1 meter.
ADDRESSES
City of West Wendover
Maps are available for inspection at 1111 North Gene L. Jones Way, West Wendover, NV 89883.
Unincorporated Areas of Elko County
Maps are available for inspection at 155 9th Street, Elko, NV 89801.

(Catalog of Federal Domestic Assistance No. 97.022, “Flood Insurance.”)

Dated: December 18, 2014.
Roy E. Wright,
Deputy Associate Administrator for Mitigation, Department of Homeland Security, Federal Emergency Management Agency.

[FR Doc. 2014-00329 Filed 1-10-14; 8:45 am]

BILLING CODE 9110-12-P